DEPARTMENT OF COMMERCE

International Trade Administration

[A-485-803]

Notice of Final Results of Antidumping Duty Changed Circumstances Review: Certain Cut-to-Length Carbon Steel Plate from Romania

AGENCY: Import Administration, International Trade Administration, Department of Commerce.

SUMMARY: On May 3, 2005, the Department of Commerce (“the Department”) published a notice of initiation and the preliminary results of its changed circumstances review of the antidumping duty finding on certain cut-to-length carbon steel plate (“carbon steel plate”) from Romania in which we preliminarily determined that Mittal Steel Galati S.A. (“Mittal Steel”) is the successor-in-interest to the S.C. Ispat Sidex S.A. (“Sidex”). See Certain Cut-to-Length Carbon Steel Plate from Romania: Initiation and Preliminary Results of Changed Circumstances Antidumping Duty Administrative Review, 70 FR 22847 (May 3, 2005) (“Preliminary Results”). We gave interested parties the opportunity to comment on the Preliminary Results. We received no comments. Therefore, for these final results, the Department is adopting its preliminary determination that Mittal Steel is the successor-in-interest to Sidex.

EFFECTIVE DATE: June 21, 2005.

FOR FURTHER INFORMATION CONTACT: Patrick Edwards or Abdelali Elouaradia, AD/CVD Operations, Office 7, Import Administration, International Trade Administration, U.S. Department of Commerce, 14th Street and Constitution Avenue, NW, Washington, DC 20230; telephone (202) 482-8029 or (202) 482-1374, respectively.

SUPPLEMENTARY INFORMATION:

Background

On August 19, 1993, the Department published in the Federal Register the antidumping duty order on carbon steel plate from Romania. See Notice of Antidumping Duty Order: Certain Cut-to-Length Carbon Steel Plate from Romania, 58 FR 44167 (August 19, 1993) (“Order”). On March 14, 2005, Mittal Steel submitted a letter stating that it is the successor-in-interest to Sidex and, as such, is entitled to receive the same antidumping duty treatment previously accorded to Sidex. See Certain Cut-to-Length Carbon Steel Plate from Romania: Notice of Final Results and Final Partial Rescission of Antidumping Duty Administrative Review, 70 FR 12651 (March 15, 2005). In that same letter, Mittal Steel explained that on February 7, 2005, Sidex changed its corporate name to Mittal Steel, following the approval of the name change by Sidex's General Meeting of Shareholders on January 10, 2005. Mittal provided record evidence indicating that the name change was unconditionally recorded and approved by the Trade Register Office of the Galati Tribunal and the National Office of the Trade Registry, a bureau of the Romanian Ministry of Justice, on February 7, 2005. In the March 14, 2005, letter, Mittal Steel also requested that the Department conduct an expedited changed circumstances review of the antidumping duty order on carbon steel plate from Romania pursuant to section 751(b)(1) of the Tariff Act (“the Act”), as amended, and 19 CFR 351.221(c)(3)(ii). Because the record evidence supporting Mittal Steel's claim was sufficient, the Department found that an expedited review was practicable and, on May 3, 2005, issued a combined notice of initiation with the preliminary results. See Preliminary Results.

In its Preliminary Results, the Department provided the interested parties with an opportunity to comment or request a public hearing regarding the Department's finding that Mittal Steel is the successor-in-interest to Sidex. No comments were submitted, nor was a public hearing requested.

Scope of the Order

For a complete description of the scope of the order, see Certain Cut-to-Length Carbon Steel Plate from Romania: Notice of Final Results and Final Partial Rescission of Antidumping Duty Administrative Review, 70 FR 12651 (March 15, 2005).

Final Results of Changed Circumstances Review

For the reasons stated in the Preliminary Results, and because we received no comments to the contrary, we continue to find that Mittal Steel is the successor-in-interest to Sidex. We will instruct U.S. Customs and Border Protection (“CBP”) to apply the cash deposit rate determination in this changed circumstances review to all entries of the subject merchandise entered, or withdrawn from warehouse, for consumption on or after the date of publication of the final results of this changed circumstances review. See Granular Polytetrafluoroethylene Resin from Italy: Final Results of Antidumping Duty Changed Circumstances Review, 68 FR 25327 (May 12, 2003). The cash deposit rate shall remain in effect until publication of the final results of the next administrative review in which Mittal Steel participates.

This notice also serves as a reminder to parties subject to administrative protective order (APO) of their responsibility concerning the disposition of proprietary information disclosed under APO in accordance with 19 CFR 351.305(a)(3). Timely written notification of the return/destruction of APO materials or conversion to judicial protective order is hereby requested. Failure to comply with the regulations and the terms of APO is a sanctionable violation.

This notice is in accordance with sections 751(b)(1) and 777(i)(1) of the Act, and 19 CFR 351.216.

Dated: June 13, 2005.
Joseph A. Spetrini,
Acting Assistant Secretary for Import Administration.

[FR Doc. E5-3216 Filed 6-20-05; 8:45 am]

BILLING CODE 3510-DS-S